DEPARTMENT OF LABOR

Employment and Training Administration

[TA-W-74,975]

Digital River Education Services, Inc., a Division of Digital River, Inc., Including Workers Whose Unemployment Insurance (UI) Wages Are Paid Through Journey Education Marketing (JEM), Including On-Site Lease Workers From Serenity Staffing, Accountemps, Silicon Valley, and Liaison Resources, Austin and Dallas, TX; Amended Certification Regarding Eligibility To Apply for Worker Adjustment Assistance

In accordance with Section 223 of the Trade Act of 1974, as amended (“Act”), 19 U.S.C. 2273, the Department of Labor issued a Certification of Eligibility to Apply for Worker Adjustment Assistance on January 28, 2011, applicable to workers of Digital River Education Services, Inc., a division of Digital River, Inc., including on-site leased workers from Serenity Staffing, Accountemps, Silicon Valley and Liaison Resources, Austin and Dallas, Texas. The notice was published in the Federal Register on February 10, 2011 (76 FR 7587).

At the request of the State agency, the Department reviewed the certification for workers of the subject firm. The workers provide reselling services to third-party vendors, publishers, and product manufactures.

Information shows that Digital River Education Services acquired Journey Education Marketing (JEM) in August 2010. Some workers separated from employment at the Austin and Dallas, Texas locations of the subject firm had their wages reported under a separated unemployment insurance (UI) tax account under the name Journey Education Marketing (JEM).

Accordingly, the Department is amending this certification to properly reflect this matter.

The intent of the Department's certification is to include all workers of the subject firm who were adversely affected by the acquisition of services from a foreign country.

The amended notice applicable to TA-W-74,975 is hereby issued as follows:

All workers of Digital River Education Services, Inc., a division of Digital River, Inc., including workers whose unemployment insurance (UI) wages are paid through Journey Education Marketing (JEM), and including on-site leased workers from Serenity Staffing, Accountemps, Silicon Valley, and Liaison Resources, Austin and Dallas, Texas, who became totally or partially separated from employment on or after December 7, 2009 through January 28, 2013, and all workers in the group threatened with total or partial separation from employment on date of certification through two years from the date of certification, are eligible to apply for adjustment assistance under Chapter 2 of Title II of the Trade Act of 1974, as amended.

Signed at Washington, DC, this 21st day of April 2011.
Michael W. Jaffe
Certifying Officer, Office of Trade Adjustment Assistance.

[FR Doc. 2011-10602 Filed 5-2-11; 8:45 am]

BILLING CODE 4510-FN-P